DEPARTMENT OF VETERANS AFFAIRS

[OMB Control No. 2900-0681]

Agency Information Collection Activity: Pre and Post Independent Living Assessment

AGENCY: Veterans Benefits Administration, Department of Veterans Affairs.

ACTION: Notice.

SUMMARY: Veterans Benefits Administration, Department of Veterans Affairs (VA), is announcing an opportunity for public comment on the proposed collection of certain information by the agency. Under the Paperwork Reduction Act (PRA) of 1995, Federal agencies are required to publish notice in the Federal Register concerning each proposed collection of information, including each proposed reinstatement of a previously approved collection, and allow 60 days for public comment in response to the notice. DATES: Comments must be received on or before September 16, 2024.

ADDRESSES: Comments must be submitted through https://www.regulations.gov.

FOR FURTHER INFORMATION CONTACT:

Program-Specific information: Nancy Kessinger, 202-632-8924, nancy.kessinger@va.gov.

VA PRA information: Maribel Aponte, 202-461-8900, vacopaperworkreduact@va.gov.

SUPPLEMENTARY INFORMATION: Under the PRA of 1995, Federal agencies must obtain approval from the Office of Management and Budget (OMB) for each collection of information they conduct or sponsor. This request for comment is being made pursuant to section 3506(c)(2)(A) of the PRA.

With respect to the following collection of information, VBA invites comments on: (1) whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Title: VA Form 28-0791, Pre and Post Independent Living Assessment.

OMB Control Number: 2900-0681. https://www.reginfo.gov/public/do/PRASearch. (Once at this link, you can enter the OMB Control Number to find the historical versions of this Information Collection).

Type of Review: Reinstatement with change of a previously approved collection.

Abstract: VA Form 28-0791, Pre and Post Independent Living Assessment (IL) is used by the Vocational Rehabilitation Counselor (VRC) during the initial and post IL evaluations. During this face-to-face meeting, the VRC identifies impairments and or barriers the Veteran may be experiencing with Activities of Daily Living (ADLs). The VRC then uses this information to identify the needs for services. The VRC compares the information obtained from the preliminary and post plan assessments to determine if there are improvements in the Veteran's activities of daily living. Without the information gathered on this form, VR&E is not able to identify IL needs and provide needed services. There are no other invitations or other communications sent to the respondent associated with the information collection. Failure to collect this information would have a detrimental impact upon the determination of appropriate rehabilitation goals for Veterans participating in the IL program. This would negatively impact the Veteran's participation in his or her rehabilitation program.

Affected Public: Individuals and households.

Estimated Annual Burden: 906 hours.

Estimated Average Burden per Respondent: 30 minutes.

Frequency of Response: Two times.

Estimated Number of Respondents: 906 per year.

Authority: 44 U.S.C. 3501 et seq.

Maribel Aponte,
VA PRA Clearance Officer, Office of Enterprise and Integration/Data Governance Analytics, Department of Veterans Affairs.

[FR Doc. 2024-15514 Filed 7-15-24; 8:45 am]

BILLING CODE 8320-01-P